DEPARTMENT OF LABOR

Employment and Training Administration

[TA-W-56,683]

Intel Corporation, Hawthorn Farm 1, Hillsboro, OR; Notice of Termination of Investigation

Pursuant to Section 221 of the Trade Act of 1974, as amended, an investigation was initiated on March 4, 2005 in response to a petition filed on behalf of workers at Intel Corporation, Hawthorn Farm 1, Hillsboro, Oregon.

The petitioners have requested that the petition be withdrawn. Consequently, the investigation has been terminated.

Signed at Washington, DC, this 25th day of March, 2005.
Linda G. Poole,
Certifying Officer, Division of Trade Adjustment Assistance.

[FR Doc. E5-1527 Filed 4-4-05; 8:45 am]

BILLING CODE 4510-30-P